ENVIRONMENTAL PROTECTION AGENCY

[EPA-HQ-OAR-2015-0341; FRL-9951-84-OAR]

Notice of Availability of Three Updated Chapters in the Environmental Protection Agency's Air Pollution Control Cost Manual

AGENCY: Environmental Protection Agency (EPA).

ACTION: Notice of availability and public comment period.

SUMMARY: The Environmental Protection Agency (EPA) is providing notice that three chapters of the current EPA Air Pollution Control Cost Manual (Control Cost Manual) have been updated. The EPA is requesting comment on Section 1, Chapter 2, “Cost Estimation: Concepts and Methodology”; Section 3.1, Chapter 1, “Refrigerated Condensers”; and Section 3.2, Chapter 2, “Incinerators/Oxidizers.”

DATES: Comments must be received on or before December 21, 2016. Please refer to SUPPLEMENTARY INFORMATION for additional information on submitting comments on the provided data.

ADDRESSES: Submit your comments, identified by Docket ID No. EPA-HQ-OAR-2015-0341, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, Cloud, or other file sharing system). For additional submission methods, the full EPA public comment policy, information about CBI or multimedia submissions, and general guidance on making effective comments, please visit http://www2.epa.gov/dockets/commenting-epa-dockets.

FOR FURTHER INFORMATION CONTACT: Larry Sorrels, Health and Environmental Impacts Division, C439-02, Environmental Protection Agency, 109 T.W. Alexander Drive, Research Triangle Park, NC 27709; telephone number: (919) 541-5041; fax number: (919) 541-0839; email address: sorrels.larry@epa.gov.

SUPPLEMENTARY INFORMATION: The EPA is requesting comment on the specific Control Cost Manual chapters included in this NODA.

I. General Information

A. What should I consider as I prepare my comments for the EPA?

1. Submitting CBI. Do not submit this information to the EPA through www.regulations.gov or email. Clearly mark the part or all of the information that you claim to be CBI. For CBI information in a disk or CD-ROM that you mail to the EPA docket office, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 Code of Federal Regulations (CFR) part 2.

2. Tips for Preparing your Comments. When submitting comments, remember to:

• Identify the notification by docket number and other identifying information (subject heading, Federal Register date and page number).

• Follow directions—The agency may ask you to respond to specific questions or organize comments by referencing a CFR part or section number.

• Explain why you agree or disagree; suggest alternatives and substitute language/data for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Information Available for Public Comment

The EPA is requesting comment on three updated chapters of the EPA Air Pollution Control Cost Manual. The Control Cost Manual contains individual chapters on control measures, including data and equations to aid users in estimating capital costs for installation and annual costs for operation and maintenance of these measures. The Control Cost Manual is used by the EPA for estimating the impacts of rulemakings, and serves as a basis for sources to estimate costs of controls that are Best Available Control Technology under the New Source Review Program, and Best Available Retrofit Technology under the Regional Haze Program and for other programs.

The three updated Control Cost Manual chapters are: Section 1, Chapter 2, Cost Estimation: Concepts and Methodology; Section 3.1, Chapter 1, Refrigerated Condensers; and Section 3.2, Chapter 2, Incinerators/Oxidizers. Section 3.2, Chapter 2, ”Incinerators” will now include oxidizers, for this type of control device is commonly used for destruction of volatile organic compounds (VOC) emissions, which is the primary function of incinerators. These three revised Control Cost Manual chapters can be found in the docket for the Control Cost Manual update (Docket ID No. EPA-HQ-OAR-2015-0341). The current Control Cost Manual version (sixth edition) is available at https://www3.epa.gov/ttn/ecas/cost_manual.html, and was last updated in 2003. The Consolidated Appropriations Act of 2014 requested that the EPA begin development of a seventh edition of the Control Cost Manual. The EPA has met with state, local, and tribal officials to discuss plans for the Control Cost Manual update as called for under the Consolidated Appropriations Act of 2014. The EPA has met with other groups as well at their request. The EPA recently updated the selective non-catalytic reduction (SNCR) and selective catalytic reduction (SCR) chapters (Section 4, Chapters 1 and 2) which were made available to the public in May 2016 (81 FR 38702, June 14, 2016).

To help focus review of the three chapters, Cost Estimation: Concepts and Methodology (Section 1, Chapter 2,); Refrigerated Condensers (Section 3.1, Chapter 1); and Incinerators/Oxidizers (Section 3.2, Chapter 2), we offer the following list of questions that the EPA is particularly interested in addressing in the updated chapters. Commenters are welcome to address any aspects of these chapters. Please provide supporting data for responses to these questions and other aspects of the chapters.

For the Cost Estimation: Concepts and Methodology chapter:

(1) Is the cost methodology included in this chapter consistent with best practices for cost estimation of pollution control equipment installation, operation and maintenance?

(2) Is the use of the equivalent uniform annual cost method appropriate for estimating costs for pollution control devices, particularly end-of-pipe controls?

(3) Are the cost items included in the definition of capital cost or total capital investment valid? Are the cost items included in the definition of annual costs valid?

For the Refrigerated Condensers chapter:

(1) What is a reasonable estimate of equipment life (defined as design or operational life) for this control measure?

(2) Is the description of refrigerated condensers complete, up to date, and accurate, particularly with regard to control of VOC?

(3) Are the cost correlations, factors, and equations for refrigerated condensers accurate? If not, how should they be revised?

(4) Are the estimates of VOC destruction efficiency for refrigerated condensers accurate?

(5) Is the discussion on the effect of fouling on refrigerated condensers accurate?

For the Incinerators/Oxidizers chapter:

(1) What is a reasonable estimate of equipment life (defined as design or operational life) for this control measure?

(2) Is the description of incinerator technologies complete, up to date, and accurate? For oxidizers?

(3) Are the cost correlations, factors, and equations for incinerators and oxidizers accurate? If not, how should they be revised?

(4) Are the estimates of incinerators VOC destruction efficiency accurate? For oxidizers?

Dated: September 8, 2016.
Stephen Page,
Director, Office of Air Quality Planning and Standards.

[FR Doc. 2016-22846 Filed 9-21-16; 8:45 am]

BILLING CODE 6560-50-P